DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2003 National Census Test.

Form Number(s): DA-11A Questionnaires: DA-1B, DA-1C, DA-1D, DA-1DD, DA-1(RH-1), DA-1(RH-2), DA-1(RH-3), DA-1(RH-4), DA-1(RH-5), DA-1(RH-6), DA-1(RH-7) Guides: DA-3IVR, DA 3I/IVR.

Agency Approval Number: None.

Type of Request: New collection.

Burden: 40,000 hours.

Number of Respondents: 240,000.

Avg Hours Per Response: 10 minutes.

Needs and Uses: The U.S. Census Bureau requests authorization from the Office of Management and Budget (OMB) to conduct the two-part 2003 National Census Test. The first part, which tests self-response options, is planned to take advantage of evolving technology. The Census Bureau needs to research various self-response options in order to develop a strategy that encourages the public to respond to the census using either paper or electronic means before Nonresponse Followup (NRFU) occurs. This part will examine the impact of offering various options on overall response rates and data quality. These options include mail, Internet, Telephone Interactive Voice Response (IVR), and a combination of Internet and IVR. Also, part of this test is designed to address questions about the effectiveness of various types of contacts with respondents.

In part one of this test, we hope to answer the following questions:

1. What is the effect of offering alternative data collection modes on response (e.g., increase, decrease, shift)?

2. What is the effect of new or additional contact strategies on overall response?

3. Do any of the alternative panels offer a gain over the Census 2000 approach?

The goal of the self-response options part of the test is to identify for further testing, in 2004, the best strategy for increasing self-enumerated response to the census, thus reducing the NRFU workload. Successful accomplishment of this goal will greatly reduce the cost of data collection while improving the data quality of Census 2010.

The second part of the test will examine revisions to the question on Hispanic origin and race. The goal of this portion of the test is to develop question wording and content that will lead to improved self-reporting of both race and Hispanic origin in the census and surveys. In order to obtain more complete reporting of these detailed groups, the revisions will include additional examples of “Other Hispanic, “Other Asian”, and “Other Pacific Islander” groups for these response categories. Adding examples of these groups may improve comparability between the decennial census and survey data.

In addition, we will examine the effect of dropping the “Some other race” (SOR) response option to the question on race. Although the Census Bureau received an exception from the OMB which allowed it to include a SOR category in past decennial censuses, this category is a source of non-comparability between the decennial census and survey data produced by other agencies.

Affected Public: Individuals or households.

Frequency: One time.

Respondent's Obligation: Mandatory.

Legal Authority: Title 13 U.S.C., Sections 141 and 193.

OMB Desk Officer: Susan Schechter, (202) 395-5103.

Copies of the above information collection proposal can be obtained by calling or writing Madeleine Clayton, Departmental Paperwork Clearance Officer, (202) 482-3129, Department of Commerce, room 6608, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: August 8, 2002.
Madeleine Clayton,
Departmental Paperwork Clearance Officer, Office of the Chief Information Officer.

[FR Doc. 02-20502 Filed 8-13-02; 8:45 am]

BILLING CODE 3510-07-P